DEPARTMENT OF COMMERCE

National Oceanic and Atmospheric Administration

RIN 0648-XF603

Takes of Marine Mammals Incidental to Specified Activities; Taking Marine Mammals Incidental to Casitas Pier Fender Pile Replacement

AGENCY: National Marine Fisheries Service (NMFS), National Oceanic and Atmospheric Administration (NOAA), Commerce.

ACTION: Notice; proposed revised incidental harassment authorization; request for comments.

SUMMARY: NMFS has received a request from Venoco, LLC, (Venoco) and Chevron USA, Inc., (Chevron) to transfer, from Venoco to Chevron, a Marine Mammal Protection Act (MMPA) one-year Incidental Harassment Authorization (IHA) to take marine mammals, by harassment, incidental to the Casitas Pier Fender Pile Replacement Project, following the sale of Casitas Pier to Chevron. No other changes are proposed. NMFS is inviting comments on the proposed transfer of the Casitas Pier IHA to Chevron.

DATES: Comments and information must be received no later than July 2, 2018.

ADDRESSES: Comments should be addressed to Jolie Harrison, Chief, Permits and Conservation Division, Office of Protected Resources, National Marine Fisheries Service. Physical comments should be sent to 1315 East-West Highway, Silver Spring, MD 20910 and electronic comments should be sent to ITP.Young@noaa.gov.

Instructions: NMFS is not responsible for comments sent by any other method, to any other address or individual, or received after the end of the comment period. Comments received electronically, including all attachments, must not exceed a 25-megabyte file size. Attachments to electronic comments will be accepted in Microsoft Word or Excel or Adobe PDF file formats only. All comments received are a part of the public record and will generally be posted online at https://www.fisheries.noaa.gov/node/23111 without change. All personal identifying information (e.g., name, address) voluntarily submitted by the commenter may be publicly accessible. Do not submit confidential business information or otherwise sensitive or protected information.

FOR FURTHER INFORMATION CONTACT: Sara Young, Office of Protected Resources, NMFS, (301) 427-8401. Electronic copies of Venoco's original IHA, may be obtained online at: https://www.fisheries.noaa.gov/node/23111. In case of problems accessing these documents, please call the contact listed above.

SUPPLEMENTARY INFORMATION:

Background

Sections 101(a)(5)(A) and (D) of the MMPA (16 U.S.C. 1361 et seq.) direct the Secretary of Commerce (as delegated to NMFS) to allow, upon request, the incidental, but not intentional, taking of small numbers of marine mammals by U.S. citizens who engage in a specified activity (other than commercial fishing) within a specified geographical region if certain findings are made and either regulations are issued or, if the taking is limited to harassment, a notice of a proposed authorization is provided to the public for review.

An authorization for incidental takings shall be granted if NMFS finds that the taking will have a negligible impact on the species or stock(s), will not have an unmitigable adverse impact on the availability of the species or stock(s) for subsistence uses (where relevant), and if the permissible methods of taking and requirements pertaining to the mitigation, monitoring and reporting of such takings are set forth.

Summary of Request

On October 27, 2017, NMFS issued an IHA to Venoco to take marine mammals, by Level B harassment, incidental to the Casitas Pier Fender Pile Replacement Project, effective from November 1, 2017, through October 31, 2018 (82 FR 55579). On January 1, 2018, Chevron succeeded Venoco as the owner and operator of Carpinteria Gas Plant, including Casitas Pier.

Chevron subsequently submitted a written request to transfer the current IHA from Venoco to Chevron. With the transfer of the Casitas Pier IHA, Chevron agrees to comply with the associated terms, conditions, stipulations, and restrictions of the original Casitas Pier IHA. No other changes were requested. The revised IHA, if issued, would remain effective through October 31, 2018.

This Federal Register notice sets forth only a proposed change in the Casitas Pier IHA holder's name. There are no other changes to the current IHA as described in the November 22, 2017, Federal Register notice of a final IHA (82 FR 55579): The specified activity; description of marine mammals in the area of the specified activity; potential effects on marine mammals and their habitat; mitigation and related monitoring used to implement mitigation; reporting; estimated take by incidental harassment; negligible impact and small numbers analyses and determinations; impact on availability of affected species or stocks for subsistence uses and the period of effectiveness remain unchanged and are herein incorporated by reference.

Proposed Revisions to the Casitas Pier IHA

NMFS is proposing a change in the name of the holder of the Casitas Pier IHA from “Venoco, LLC” to “Chevron USA, Inc”.

Request for Public Comments

NMFS invites comment on the proposed change to the current IHA. Please include with your comments any supporting data or literature citations to help inform our final decision on Venoco and Chevron's request for transfer of the Casitas Pier authorization.

Dated: May 25, 2018.
Donna S. Wieting,
Director, Office of Protected Resources, National Marine Fisheries Service.

[FR Doc. 2018-11660 Filed 5-30-18; 8:45 am]

BILLING CODE 3510-22-P